Title 3—

The President

Memorandum of May 12, 2006

Assignment of Functions Relating to the Report to the Congress on Implementation of Humanitarian Assistance Code of Conduct

Memorandum for the Secretary of State

Pursuant to the authority vested in me by the Constitution and laws of the United States, including section 301 of title 3, United States Code, the functions of the President under section 2110(c) of the Emergency Supplemental Appropriations Act for Defense, the Global War on Terror, and Tsunami Relief, 2005 (title II of Public Law 109-13) (22 U.S.C. 2370b), are assigned to the Secretary of State.

You are authorized and directed to publish this memorandum in the Federal Register.

B

THE WHITE HOUSE,

Washington, May 12, 2006.

[FR Doc. 06-4928

Filed 5-25-06; 8:45 am]

Billing code 4710-10-P